ELECTION ASSISTANCE COMMISSION

Notice of Public Meeting for EAC Board of Advisors

AGENCY: U.S. Election Assistance Commission.

ACTION: Notice of public meeting for EAC Board of Advisors.

Date & Time: Wednesday, April 24, 2019, 8:30 a.m.-5:45 p.m. thru Thursday, April 25, 2019, 8:15-11:45 a.m., MDT.

Place: Salt Lake Marriott Downtown at City Creek, 75 SW Temple, Salt Lake City, UT 84101, 801-531-0800.

Purpose: In accordance with the Federal Advisory Committee Act (FACA), Public Law 92-463, as amended (5 U.S.C. Appendix 2), the U.S. Election Assistance Commission (EAC) Board of Advisors will meet to address its responsibilities under the Help America Vote Act of 2002 (HAVA), to present its views on issues in the administration of Federal elections, formulate recommendations to the EAC, and receive updates on EAC activities.

Agenda: The Board of Advisors will receive an overview and updates on EAC agency operations. The Board will hold an Intel briefing discussion, a panel discussion on Disaster Management & Recovery Working Group presentations, an EAVS presentation, and a panel discussion on accessibility. The Board will receive updates on the Voluntary Voting System Guidelines (VVSG) 2.0 Principles and Guidelines and on the Requirements from NIST and EAC staff. The Board of Advisors will hold discussions on the VVSG 2.0's Technical Requirements. The Board of Advisors will elect new officers, and the Executive Board will appoint subcommittee members and chairs, receive reports from the committees, and consider other administrative matters.

Supplementary: Members of the public may submit relevant written statements to the Board of Advisors with respect to the meeting no later than 5:00 p.m. EDT on Monday, April 22, 2019. Statements may be sent via email at facaboards@eac.gov, or via standard mail addressed to the U.S. Election Assistance Commission, 1335 East West Highway, Suite 4300, Silver Spring, MD 20910, or by fax at 301-734-3108.

This meeting will be open to the public.

Person to contact for information: Bert Benavides, Telephone: (301) 563-3937.

Clifford D. Tatum,
General Counsel, U.S. Election Assistance Commission.

[FR Doc. 2019-07151 Filed 4-10-19; 8:45 am]

BILLING CODE 6820-KF-P